DEPARTMENT OF HOMELAND SECURITY

Coast Guard

[Docket No. USCG-2023-0094; OMB Control Number 1625-0041]

Information Collection Request to Office of Management and Budget

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0041, Various International Agreement Pollution Prevention Certificates and Documents, and Equivalency Certificates; without change.

Our ICR describes the information we seek to collect from the public. Before submitting this ICR to OIRA, the Coast Guard is inviting comments as described below.

DATES: Comments must reach the Coast Guard on or before April 3, 2023.

ADDRESSES: You may submit comments identified by Coast Guard docket number [USCG-2023-0094] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: Commandant (CG-6P), ATTN: Paperwork Reduction Act Manager, U.S. Coast Guard, 2703 Martin Luther King Jr. Ave. SE, Stop 7710, Washington, DC 20593-7710.

FOR FURTHER INFORMATION CONTACT: A.L. Craig, Office of Privacy Management, telephone 202-475-3528, or fax 202-372-8405, for questions on these documents.

SUPPLEMENTARY INFORMATION:

Public Participation and Request for Comments

This notice relies on the authority of the Paperwork Reduction Act of 1995; 44 U.S.C. 3501 et seq., chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) the practical utility of the Collection; (2) the accuracy of the estimated burden of the Collection; (3) ways to enhance the quality, utility, and clarity of information subject to the Collection; and (4) ways to minimize the burden of the Collection on respondents, including the use of automated collection techniques or other forms of information technology.

In response to your comments, we may revise this ICR or decide not to seek an extension of approval for the Collection. We will consider all comments and material received during the comment period.

We encourage you to respond to this request by submitting comments and related materials. Comments must contain the OMB Control Number of the ICR and the docket number of this request, [USCG-2023-0094], and must be received by April 3, 2023.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and submissions in response to this document, see DHS's eRulemaking System of Records notice (85 FR 14226, March 11, 2020).

Information Collection Request

Title: Various International Agreement Pollution Prevention Certificates and Documents, and Equivalency Certificates.

OMB Control Number: 1625-0041.

Summary: Required by the adoption of the International Convention for the Prevention of Pollution from Ships (MARPOL 73/78) and other international treaties, these certificates and documents are evidence of compliance for U.S. vessels on international voyages. Without the proper certificates or documents, a U.S. vessel could be detained in a foreign port.

Need: Compliance with treaty requirements aids in the prevention of pollution from ships.

Forms

• CG-5352, International Oil Pollution Prevention Certificate

• CG-5352A, Form A Supplement to the International Oil Pollution Prevention Certificate (IOPP Certificate)

• CG-5352B, Form B Supplement to the International Oil Pollution Prevention Certificate (IOPP Certificate)

• CG-6047, International Sewage Pollution Prevention Equivalency Certificate

• CG-6047A, Statement of Voluntary Compliance for Sewage Pollution Prevention

• CG-6056, International Air Pollution Prevention Certificate

• CG-6056A, Supplement to International Air Pollution Prevention Certificate

• CG-6056B, Statement of Voluntary Compliance for Annex VI of MARPOL 73/78

• CG-6056C, Supplement to Statement of Voluntary Compliance for Annex VI of MARPOL 73/78

• CG-6057, Statement of Voluntary Compliance

• CG-6059, International Anti-Fouling Systems Certificate

• CG-6059A, Record of Anti-Fouling Systems

• CG-6060, International Energy Efficiency (IEE) Certificate

• CG-6060A, Supplement to the International Energy Efficiency Certificate (IEE Certificate)

• CG-9191, International Ballast Water Management Certificate (Statement of Voluntary Compliance)

• CG-16478, International Certificate on Inventory of Hazardous Materials (Statement of Voluntary Compliance)

Why is the Coast Guard proposing to add a new form: The Coast Guard is adding an optional form CG-16478 to provide U.S. vessel owners and operators a way to document equivalent compliance with the Hong Kong International Convention for the Safe and Environmentally Sound Recycling of Ships, 2009 (Hong Kong (HK) Convention). The form may aid a U.S. vessel during a foreign Port State Control boarding.

Respondents: Owners, operators, or masters of vessels.

Frequency: On occasion.

Hour Burden Estimate: The estimated burden has increased from 2,993 hours to 4,350 hours, due to an increase in the estimated number of responses. In addition, the estimated burden has increased by 19 hours, due to a new optional form—the International Certificate on Inventory of Hazardous Materials (Statement of Voluntary Compliance) (form CG-16478). The total estimated burden is 4,369 hours.

Authority: The Paperwork Reduction Act of 1995; 44 U.S.C. chapter 35, as amended.

Dated: January 24, 2023.
Kathleen Claffie,
Chief, Office of Privacy Management, U.S. Coast Guard.

[FR Doc. 2023-01875 Filed 1-30-23; 8:45 am]

BILLING CODE 9110-04-P